DEPARTMENT OF THE INTERIOR

Bureau of Land Management

[LLCAD09000.L14300000.ES0000; CACA- 051457]

Correction for Notice of Realty Action; Recreation and Public Purposes Act Classification; California

AGENCY: Bureau of Land Management, Interior.

ACTION: Correction

SUMMARY: This notice corrects a Notice of Realty Action published in the Federal Register on February 10, 2010, which listed an incorrect legal land description for the Joint Port of Entry (JPOE) inspection facility on Interstate 15 (I-15), near the California/Nevada state line.

ADDRESSES: Bureau of Land Management, Needles Field Office, 1303 South U.S. Highway 95, Needles, California 92363.

FOR FURTHER INFORMATION CONTACT: Jose M. Najar, Realty Specialist, BLM Needles Field Office, 951-697-5387, or email: jnajar@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The notice of realty action was published in the Federal Register on February 10, 2012 (75 FR 6702), The erroneous legal land description is on page 6703, 1st column, line 5 through 11. The legal land description is corrected to read:

San Bernardino Meridian, California

Township 16 North, Range 14 East

Sec. 11, Lot 1;

Sec. 12, Lots 2, 4, 6, 9, 11, and 14;

Sec. 13, Lot 2;

Sec. 14, Lots 1, 4, 7, 11 and 12;

Sec. 23, Lots 3, 6, 9 and 11.

The area described contains 133.19 acres, more or less, in San Bernardino County, California.

Authority: 43 CFR 2741.5.

Tom Pogacnik,
Deputy State Director, Natural Resources.

[FR Doc. 2012-19808 Filed 8-10-12; 8:45 am]

BILLING CODE 4310-40-P